DEPARTMENT OF TRANSPORTATION

Federal Transit Administration

[FTA Docket No. FTA 2024-0011]

Agency Information Collection Activity Under OMB Review: Transit COVID-19 Response Program

AGENCY: Federal Transit Administration, Department of Transportation.

ACTION: Notice of request for comments.

SUMMARY: In accordance with the Paperwork Reduction Act of 1995, this notice announces the intention of the Federal Transit Administration (FTA) to request the Office of Management and Budget (OMB) to approve a request for an extension without change to an existing information collection: Transit COVID-19 Response Program.

DATES: Comments must be submitted before December 23, 2024.

ADDRESSES: To ensure that your comments are not entered more than once into the docket, submit comments identified by the docket number by only one of the following methods:

1. Website: https://www.regulations.gov. Follow the instructions for submitting comments on the U.S. Government electronic docket site. All electronic submissions must be made to the U.S. Government electronic docket site at https://www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9 a.m. and 5 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to https://www.regulations.gov. You may review DOT's complete Privacy Act Statement in the Federal Register published April 11, 2000, (65 FR 19477), or you may visit https://www.regulations.gov.

Docket: For access to the docket to read background documents and comments received, go to https://www.regulations.gov at any time. Background documents and comments received may also be viewed at the U.S. Department of Transportation, 1200 New Jersey Avenue SE, Docket Operations, M-30, West Building, Ground Floor, Room W12-140, Washington, DC 20590-0001 between 9 a.m. and 5 p.m., Monday through Friday, except Federal holidays.

FOR FURTHER INFORMATION CONTACT: Stewart Mader, 202-366-9677 or stewart.mader@dot.gov.

SUPPLEMENTARY INFORMATION:

Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Transit COVID-19 Response Program.

OMB Number: 2132-0581.

Background:

In accordance with the Paperwork Reduction Act (PRA) of 1995, the Federal Transit Administration (FTA) is requesting Office of Management and Budget (OMB) 3-year approval of an extension without change for a currently approved collection. FTA began collecting monthly data in April 2021 related to impacts from the coronavirus disease 2019 (COVID-19) on public transportation agencies, including transit workforce counts; transit service levels; counts of COVID-19 positives, fatalities, recoveries, and unvaccinated employees; whether or not a transit agency has implemented the U.S. Centers for Disease Control and Prevention (CDC) Order and Transportation Security Administration (TSA) Security Directive requiring workers and passengers to wear masks; and whether or not the agency used FTA funds to support vaccine access services. FTA used this data to inform FTA's COVID-19 response and recovery actions, including monitoring of safety measures and impacts, development of technical assistance and safety advisories, monitoring use of FTA grant funds to address COVID-19 considerations, and monitoring compliance with Federal requirements. Although the Public Health Emergency for the COVID-19 pandemic ended in May 2023 and the FTA discontinued COVID-19 reporting requirements in September 2022, the FTA is seeking to renew this information collection.

Current Action: Extension of a currently approved collection.

Respondents: Recipients and sub-recipients of FTA funds under the Urbanized Area Formula Funding program or the Formula Grants for Rural Areas program that operate transit systems or pass through funds to sub-recipients that operate transit systems. Recipients of FTA funds under the Enhanced Mobility of Seniors and Individuals with Disabilities program were requested to provide this information on a voluntary basis.

Estimated Total Annual Respondents: 2,390.

Estimated Annual Burden on Respondents: 28,680.

Frequency: As Needed.

Kusum Dhyani,
Director, Office of Management Planning.

[FR Doc. 2024-24584 Filed 10-23-24; 8:45 am]

BILLING CODE 4910-57-P